DEPARTMENT OF DEFENSE

Office of the Secretary

Open Meeting of the National Defense University Visitors (BOV)

AGENCY: Department of Defense; National Defense University.

ACTION: Notice of “Open Meeting.”

SUMMARY: The National Defense University (NDU), Designated Federal Officer, has scheduled a meeting of the Board of Visitors. Request subject notice be published in the Federal Register. The National Defense University Board of Visitors is a Federal Advisory Board. The Board meets twice a year in proceedings that are open to the public.

DATES: The meeting will be held on May 5-6, 2008 from 11:00 to 17:00 on the 5th and continuing on the 6th from 8:30 to 13:30.

Location: The Board of Visitors meeting will be held at Building 62, Marshall Hall, Room 155, National Defense University, 300 5th Avenue, Fort McNair, Washington, DC 20319-5066.

FOR FURTHER INFORMATION CONTACT: The point of contact for this notice of an “Open Meeting” is Jeanette Tolbert, at (202) 685-3955, Fax (202) 685-3328 or TolbertJ@ndu.edu.

SUPPLEMENTARY INFORMATION: State of the University, National Security Professional Development, Accreditation, and Federal Policy. The meeting is open to the public; limited space is made available for observers and will be allocated on a first-come, first-serve basis.

Dated: March 24, 2008.
L.M. Bynum,
Alternate OSD Federal Register Liaison Officer, DoD.

[FR Doc. E8-6527 Filed 3-28-08; 8:45 am]

BILLING CODE 5001-06-P